DEPARTMENT OF THE INTERIOR

Bureau of Indian Affairs

[212A2100DD/AAKC001030/A0A501010.999900]

Indian Business Incubators Program (IBIP) Grants Under the Native American Business Incubator Act of 2020

AGENCY: Office of the Assistant Secretary, Indian Affairs, Interior.

ACTION: Notice of solicitation for proposals.

SUMMARY: The Secretary of the Interior (Secretary), through the Office of Indian Economic Development (OIED), Division of Economic Development (DED), solicits proposals from eligible applicants (see Section IV. Eligibility for Funding, of this notice) to receive competitive grants to establish and operate business incubators that serve Tribal reservation communities. These grants will provide individually tailored business incubation and other business services to Native businesses and Native entrepreneurs to overcome the unique obstacles they confront and provide tools necessary to start and grow businesses that offer products and services to reservation communities.

DATES: Grant application packages must be submitted to Grants.gov no later than 5 p.m. Eastern Daylight Time, on Monday May 23, 2022. OIED will not consider proposals received after this time and date.

ADDRESSES: The required method of submitting proposals is through Grants.gov. For information on how to apply for grants in Grants.gov, see the instructions at https://www.grants.gov/help/html/help/Applicants/HowToApplyForGrants.htm. Proposals must be submitted to Grants.gov by the deadline established in the DATES section of this notice.

FOR FURTHER INFORMATION CONTACT: Mr. Dennis Wilson, Grant Management Specialist, OIED, telephone: (505) 917-3235; email: dennis.wilson@bia.gov. If you have questions regarding the application process, please contact Ms. Jo Ann Metcalfe, Grant Officer, telephone (703) 390-6410; email jo.metcalfe@bia.gov. Individuals in the United States who are deaf, deafblind, hard of hearing, or have a speech disability may dial 711 (TTY, TDD, or TeleBraille) to access telecommunications relay services. Additional Program information can be found at https://www.bia.gov/service/grants/ibip.

SUPPLEMENTARY INFORMATION:

I. General Information

II. Number of Projects Funded

III. Background

IV. Eligibility for Funding

V. Requirements for an IBIP Proposal

VI. Required Non-Federal Contributions

VII. Applicant Procurement Procedures

VIII. Limitations

IX. IBIP Application Guidance

X. Mandatory Components

XI. Incomplete Applications

XII. Review and Selection Process

XIII. Evaluation Criteria

XIV. Transfer of Funds

XV. Reporting Requirements for Award Recipients

XVI. Conflicts of Interest

XVII. Questions and Requests for OIED Assistance

XVIII. Paperwork Reduction Act

XVIII. Authority

I. General Information

Award Ceiling: $300,000 annually.

Award Floor: $100,000 annually.

CFDA Number: 15.032.

Cost Sharing or Matching Requirement: Yes.

Number of Awards: 10 to 15.

Category: Business Incubator Services.

Length of Project Periods:

Length of Project Period: 36 month project period with three 12-month budget periods, with an option for an additional three 12-month budget periods.

II. Number of Projects Funded

OIED anticipates award of approximately 10 to 15 grants under this announcement ranging in value from approximately $100,000 annually to $300,000 annually. IBIP awards will be for a three-year period of performance. OIED will use a competitive evaluation process based on criteria described in the Review and Selection Process section (see Section XII. Review and Selection Process, of this notice).

III. Background

On October 20, 2020, Congress enacted the Native American Business Incubators Program Act, Public Law 116-174, codified at 25 U.S.C. 5801 et seq. In the Act, Congress established the Native American Business Incubators Program and required the Secretary of the Interior to promulgate regulations to implement the program. See 25 U.S.C. 5804.

The Office of the Assistant Secretary—Indian Affairs, through OIED, is soliciting proposals from eligible entities (as outlined in section IV of this notice) for grant funding to establish Indian Business Incubators that serve entrepreneurs with start-up and early-stage businesses who will provide products or services to Tribal reservation communities. The Indian Business Incubator will deliver a range of business services such as: Mentorships, networking, technical assistance, and access to investors. Further, Indian Business Incubators will promote collaboration, address challenges, and provide individually tailored services to overcome the obstacles that are unique to each participating business.

The OIED, previously referred to as the Office of Indian Energy and Economic Development (IEED), administers this grant program through the DED funded under a non-recurring appropriation budget. Congress appropriates funds on a year-to-year basis. Thus, while IBIP projects may extend over several years, funding for successive years beyond the original period of performance depends on each fiscal year's appropriations.

The projects awarded are expected to be for a project period of 36 months, with an option of an additional 36 months. The initial grant award will be for a 12-month budget period. The award continuation beyond each 12-month budget period will be subject to the availability of funds, satisfactory progress on the part of each recipient, and a determination that continued funding would be in the best interest of the Federal government. Neither the Department of the Interior (DOI) nor Indian Affairs will be held responsible for proposal or application preparation costs. Publication of this solicitation does not obligate DOI or Indian Affairs to award any specific grant or to obligate all or any part of available funds.

IV. Eligibility for Funding

The Secretary, through the OIED, will solicit proposals for an IBIP grant from eligible entities that are able to provide the physical workspace, equipment, and connectivity necessary for Native businesses and Native entrepreneurs to collaborate and conduct business on a local, regional, national, and international level:

• The following are eligible entities (2 CFR 1187.3):

○ An Indian Tribe;

Federally recognized Tribes listed as Indian Entities Recognized by and Eligible to Receive Services from the United States Bureau of Indian Affairs at 87 FR 4636 (January 28, 2022) or Tribal Organizations. Indian Tribes are referred to using the term “Tribe” throughout this notice. Tribal Organization is defined by 25 U.S.C. 5304(l). While federally recognized Tribes or Tribal Organizations may apply for IBIP grants, grantees may select or retain for-profit or non-profit Tribal Organizations to perform a grant's scope of work to receive IBIP grants.

○ Tribal College or University that will have been operational for not less than one year before receiving a grant under the IBIP;

Qualifies for funding under the Tribally Controlled Colleges and Universities Assistance Act of 1978 (25 U.S.C. 1801 et seq.) and implementing regulations at 25 CFR part 41, or the Navajo Community College Act (25 U.S.C. 640a note); or

Is cited in section 532 of the Equity in Educational Land-Grant Status Act of 1994 (7 U.S.C. 301 note).

○ An Institution of Higher Education that will have been operational for not less than one year before receiving a grant under the IBIP:

Admits as regular students only persons having a certificate of graduation from a school providing secondary education, or the recognized equivalent of such a certificate, or persons who meet the requirements of 20 U.S.C. 1091(d);

Is legally authorized within such State to provide a program of education beyond secondary education;

Provides an educational program for which the institution awards a bachelor's degree or provides not less than a two-year program that is acceptable for full credit toward such a degree, or awards a degree that is acceptable for admission to a graduate or professional degree program, subject to review and approval by the Secretary;

Is a public or other nonprofit institution; and

Is accredited by a nationally recognized accrediting agency or association, or if not so accredited, is an institution that has been granted pre-accreditation status by such an agency or association that has been recognized by the Secretary for the granting of pre-accreditation status, and the Secretary has determined that there is satisfactory assurance that the institution will meet the accreditation standards of such an agency or association within a reasonable time.

○ A Tribe or private nonprofit organization that provides business and financial technical assistance and;

Is a “Tribal Organization” as defined by 25 U.S.C. 5304(l)

Will have been operational for not less than one year before receiving a grant under the IBIP; and

Commits to serving one or more reservation communities.

○ Two or more eligible entities may submit a Joint Application, but:

All joint entities must submit certifications they are eligible as they combine resources and expertise at a physical location dedicated to assisting Native businesses and Native entrepreneurs under the IBIP, demonstrating that together they meet the requirements of 2 CFR 1187.13; and

The application must indicate which eligible entity will be the lead contact for the purposes of grant management.

V. Requirements for an IBIP Proposal

Applicants must provide a certification that they are eligible to receive an IBIP grant, as well as designate an executive director or program manager to manage the business incubator. Applicants must submit the necessary documents per Section X. Mandatory Components, of this notice.

VI. Required Non-Federal Contributions

Applicants must include a description of the non-Federal contributions, in an amount equal to not less than 25 percent of the grant amount requested, or submit a waiver request. OIED may waive the requirement for the non-Federal contribution, in whole or in part, for one or more years of the initial IBIP grant award if OIED determines that the waiver is appropriate based on:

• The awardee's ability to provide non-Federal contributions;

• The quality of business incubation services; and

• The likelihood that one or more reservation communities served by the awardee will not receive similar services elsewhere because of the remoteness or other reasons that inhibit the provision of business and entrepreneurial development services.

In a non-competitive renewal, the Awardee must provide non-Federal contributions in an amount not less than 33 percent of the total amount of the grant. Failure to provide the non-Federal contribution will result in noncompliance and OIED withholding of funds, unless OIED waives the requirement under 25 CFR 1187.43.

Matching and cost-sharing requirements are discussed in 2 CFR 200.306. The primary recipient is responsible for the full amount of the non-Federal match proposed, including any amount provided by one or more third parties as listed on the Standard Form 424, Application for Federal Assistance. Whereas the full match contribution does not need to be in hand as of the date of the application, the application must provide commitments for the non-Federal contribution through the term of the grant. Applicants may meet the required non-Federal cost share or match through in-kind contributions, which must be necessary and reasonable for accomplishing the proposed project objective(s). The applicant must describe and attribute fair and equitable market value (2 CFR 200.306) to any in-kind match proposed in lieu of cash, which may include, but is not limited to:

• Not paid from, or sourced, from other Federal funds, programs or grants;

• Documented in project records and not be used as match in another grant;

• An allowable cost under 2 CFR 200 Subpart E—Cost Principles;

• Must occur within the period of performance of the award;

• Value of services and property donated as per 2 CFR 200.306, for instance;

○ Space as measured by the value of rent;

○ Materials and Equipment;

○ Donated Services and Technical Assistance;

Payroll or volunteer services from personnel working on the incubator who are not funded by IBIP, which must be well documented and supported per methods used for regular personnel costs;

• Contribution from a third party(ies) per 2 CFR 200.434. A third party is any individual or organization other than the eligible applicant, such as a partner, that is not receiving grant funds;

• Projected earnings through the term of the grant;

VII. Applicant Procurement Procedures

The applicant is subject to the procurement standards in 2 CFR 200.318 through 200.326. In accordance with 2 CFR 200.318, an applicant must use its own documented procurement procedures which reflect Tribal laws and regulations, provided that the procurements conform to applicable Federal law and standards identified in title 2 of the Code of Federal Regulations.

VIII. Limitations

IBIP grant funding must be expended in accordance with applicable statutory and regulatory requirements, including 2 CFR part 200. As part of the grant application review process, OIED may conduct a review of an applicant's prior OIED grant awards(s).

Applicants that are currently under BIA sanction Level 2 or higher resulting from non-compliance with the Single Audit Act are ineligible for a IBIP award. Applicants at Sanction Level 1 will be considered for funding.

IBIP award funds may be used to provide physical workspace and facilities for Native businesses and Native entrepreneurs participating in the business incubator. Funds can be used to establish partnerships with other institutions and entities to provide comprehensive business incubation services to Native businesses and Native entrepreneurs participating in the business incubator, as well as for any other uses typically associated with business incubators that OIED determines to be appropriate and consistent with the purposes of the IBIP.

IBIP awards may not be used for:

• Indirect costs or administrative costs as defined by the Federal Acquisition Regulation (FAR);

• Supplemental employment, including fringe benefits, for current positions not significantly and directly involved in the proposed project;

• International travel;

• Outside Fees, Legal or Contract Negotiation fees, and application fees associated with permitting that are outside the scope of the grant award;

• Entertainment costs

○ For remote training/conferences locations (where eating establishments are not within a reasonable distance), food costs are allowable, but should not exceed the GSA meals and incidental costs per attendee for that location, not to exceed $5,000 for one event, and not more than twice in a calendar year;

○ Refreshments for non-remote training/conference locations are allowable for $5/attendee/day, not to exceed $1,000 per event,

○ All other food costs are disallowed;

○ However, travel stipends for training participants are allowed, including costs for meals which must follow the GSA Per Diem rates.

• Any other activities not authorized by the grant award letter.

IX. IBIP Application Guidance

All applications are required to be submitted in digital form to grants.gov. For instructions, see https://www.grants.gov/help/html/help/Applicants/HowToApplyForGrants.htm.

X. Mandatory Components

The mandatory components, and forms identified below, must be included in each proposal package. Links to the mandatory forms can be found under the “package” tab on the IBIPFY2022 grant opportunity page at www.grants.gov. Any information in the possession of the BIA or submitted to the BIA throughout the process, including final work product, constitutes government records and may be subject to disclosure to third parties under the Freedom of Information Act (FOIA), 5 U.S.C. 552, and the Department of the Interior's FOIA regulations at 43 CFR part 2, unless a FOIA exemption or exception

applies, or other provisions of law protect the information. The following are the names of the required forms:

Cover Page

Application for Federal Assistance (SF-424) [V3.0]

Cover Letter

Project Abstract Summary [V2.0]

Project Narrative Attachment Form [V1.2]

Budget Information for Non-Construction Programs (SF-424A) [V1.0]

Attachments [V1.2]

Key Contacts [V2.0]

Cover Page: A Cover Page must be included in the application and contain the following:

• Category of Funding for the IBIP application.

• Proposal Title.

• Total Amount of funding requested from the Program, including matching amounts.

• Full and Proper Name of the applicant organization.

• Statement confirming the proposed work will have the potential to reach the intended goals and objectives.

• Confirm current registration in SAM, attaching print-out from sam.gov to the cover page. See instructions and registration instructions in Appendix.

• Provide current ASAP Recipient ID with BIA. Allow 3-4 weeks to complete all steps of enrollment prior to submission deadline. The organization must be enrolled in ASAP with BIA, current enrollment with other federal agencies is not sufficient. See instructions and registration instructions in Appendix.

• Confirmation of other completed Mandatory Components identified in this section (SF-424, Project Abstract Summary, etc).

• Identification if partnerships such as Tribes, other Tribal Organizations or Entities. This is partnerships outside of a Joint Application.

Application for Federal Assistance SF-424: Applicants are required to complete the Application for Federal Assistance SF-424. Please use a descriptive file name that includes Tribal name and project description, for example IBIPSF424.Tribalname.Project. The SF-424 form requires the Congressional District number of the applicant, which can be found at https://www.house.gov/reprentatives/find-your-representative.

Cover Letter: A cover letter not to exceed one (1) page that summarizes the interest and intent, complete with authorized signature(s) of organization leadership. Tribal Resolutions are not necessary but will be accepted as support for the organization.

Project Abstract Summary and Project Narrative Attachment: The first paragraph of the Project Abstract Summary and Project Narrative must include the title and basic description of the proposed business incubator location and services provided. The Project Narrative must not exceed 50 pages. Supplemental information such as letters of support, graphs, charts, maps, photographs and other graphic and/or other relevant information may be included in an appendix and not counted against the 50-page Project Narrative limit. At a minimum, the Project Narrative must include:

• A certification that the applicant(s):

○ Is an eligible applicant; and

○ Has or will designate an executive director or program manager to manage the business incubator;

○ Agrees to:

A site evaluation by the Secretary as part of the final selection process;

An annual programmatic and financial examination for the duration of the grant; and

To the maximum extent practicable, to remedy any problems identified pursuant to the site evaluation and examination.

• A description of the one or more reservation communities to be served by the business incubator;

• A three-year plan that describes:

○ One-year milestone goals and objectives that coordinates with the identified budget periods.

○ The number of Native businesses and Native entrepreneurs to be participating in the business incubator, with goal setting of anticipated number of Native businesses starting, and the anticipated number of Native businesses to help maintain.

○ Whether the business incubator will focus on a particular type of business or industry.

○ A detailed breakdown of the services to be offered to Native businesses and Native entrepreneurs participating in the business incubator; and

○ A detailed breakdown of the services, if any, to be offered to Native businesses and Native entrepreneurs not participating in the business incubator.

• Information demonstrating the effectiveness and experience of the eligible applicant in:

○ Conducting financial, management, and marketing assistance programs designed to educate or improve the business skills of current or prospective businesses;

○ Working in and providing services to Native American communities;

○ Providing assistance to entities conducting business in reservation communities;

○ Providing technical assistance under Federal business and entrepreneurial development programs for which Native businesses and Native entrepreneurs are eligible; and

○ Managing finances and staff effectively.

• A description of the applicant's non-Federal contributions, in an amount equal to not less than 25 percent of the grant amount requested; and

• A site description of the location at which the eligible applicant will provide physical workspace, including a description of the technologies, equipment, and other resources that will be available to Native businesses and Native entrepreneurs participating in the business incubator, if the applicant is in possession of the site, or a written site proposal containing the information in 2 CFR 1187.12, if the applicant is not yet in possession of the site.

• If the applicant is not yet in possession of the site, the applicant must submit a written site proposal with their application that contains:

○ Sufficient detail for the Secretary to ensure, in the absence of a site visit or video submission, that the proposed site will permit the eligible applicant to meet the requirements of the IBIP; and

○ A timeline describing when the eligible applicant will be:

In possession of the proposed site; and

Operating the business incubator at the proposed site.

Applicants must provide milestones and projected outcomes of their project(s) to demonstrate a successful outcome of the grant. The proposal should address grant awardee requirements:

• Awardee must:

○ Offer culturally tailored incubation services to Native businesses and Native entrepreneurs;

○ Use a competitive process for selecting Native businesses and Native entrepreneurs to participate in the business incubator; however, awardees may still offer technical assistance and advice to Native businesses and Native entrepreneurs on a walk-in basis;

○ Provide physical workspace that permits Native businesses and Native entrepreneurs to conduct business and collaborate with other Native businesses and Native entrepreneurs;

○ Provide entrepreneurship and business skills training and education to Native businesses and Native entrepreneurs including:

Financial education, including training and counseling in:

• Applying for and securing business credit and investment capital;

• Preparing and presenting financial statements; and

• Managing cash flow and other financial operations of a business;

Management education, including training and counseling in planning, organization, staffing, directing, and controlling each major activity or function of a business or startup; and

Marketing education, including training and counseling in:

• Identifying and segmenting domestic and international market opportunities;

• Preparing and executing marketing plans;

• Locating contract opportunities;

• Negotiating contracts; and

• Using varying public relations and advertising techniques.

○ Provide direct mentorship or assistance finding mentors in the industry in which the Native business or Native entrepreneur operates or intends to operate; and

○ Provide access to networks of potential investors, professionals in the same or similar fields, and other business owners with similar businesses.

• Each awardee must leverage technology to the maximum extent practicable to provide Native businesses and Native entrepreneurs with access to the connectivity tools needed to compete and thrive in 21st-century markets.

Additional items to consider:

• A description of the project objectives and goals for each of the 3 years;

• Deliverable products that the grant is expected to generate, including interim deliverables (such as status reports and technical data to be obtained) and final deliverables; and

• Resumes of key consultants and personnel to be retained, if available, and the names of subcontractors, if applicable. This information may be included as an attachment to the application and will not be counted towards the 50-page limitation.

• Please use a descriptive file name that includes Tribal name and project description. For example: IBIPNarrative.Tribalname.Project.

In addition, unless prohibited by Tribal procurement procedures, please include a description of any consultant(s) and partnership(s) the applicant wishes to retain, including their contact information, technical expertise, training, qualifications, and suitability. These documents may be included at the end of the Project Narrative and will not be counted toward the 50-page limitation.

Project Narratives are not judged based on their length. Please do not submit any unnecessary attachments or documents beyond what is listed above, e.g., Tribal history, unrelated photos and maps.

Budget Information for Non-Construction Programs (SF-424A) [V1.0], Line Item Budget and Budget Narrative: All applicants are required to submit a project budget and budget justification with their application. The project budget is for the initial budget period only (typically the first 12 months of the project) and entered on the Budget Information Standard Form, either SF424A or SF-424C. Applicants are encouraged to review the form instructions in addition to the guidance in this section. The budget justification consists of a budget narrative and a line-item budget detail for the first budget period of the proposed project that includes detailed calculations for “object class categories” identified on the Budget Information Standard Form and discuss the necessity, reasonableness, and allocation of the proposed cost.

Applicants are required to submit a budget using the SF-424A form. Please use a descriptive file name that includes Tribal name and project description. For example: IBIPBudget.Tribalname.Project. When preparing budget information for the SF-424, applicants should plan to apply for funding in the range of $100,000-$300,000 a year for three years.

The budget must identify the amount of grant funding requested and a comprehensive breakdown of all projected and anticipated expenditures, including contracted personnel fees, consulting fees (hourly or fixed), travel costs, data collection and analysis costs, computer rentals, report generation, drafting, advertising costs for a proposed project and other relevant project expenses, and their subcomponents. Budget cost codes and items must be necessary and reasonable as they directly relate to the incubator project proposal. Justifications must be provided:

• Administrative Costs associated with search, review and selection of external hires, including administrative support and supervision of liaison(s).

• Salary and Fringe Benefit costs that will be coordinated with OIED to ensure salary costs are reasonable and relatively consistent across the liaison network nationwide.

• Travel costs should be itemized by airfare, vehicle rental, lodging, and per diem, based on the current Federal government per diem schedule.

• Data collection and analysis costs should be itemized in sufficient detail for the OIED review committee to evaluate the charges.

• Other expenses may include computer rental, report generation, drafting, and advertising costs for a proposed project.

• Match requirements must also be documented, as outlined per Section VI. Required Non-Federal Contribution, of this notice.

Annual Meetings: Applicants are required to attend annual IBIP meetings. Some of the meetings may be held in Washington, DC, and some of the meetings may be held in a regional location. For the annual meetings, grantees should have allocated sufficient grant funding in their proposed program budgets to cover travel, accommodation, and per diem expenses for two individuals for a 1½ day meeting that will occur once each year. OIED may specify the individuals who will attend these meetings (e.g., Project Directors, Business Incubator participants). Additional funds for these expenses will not be available once grants are awarded.

Commitment of Non-Federal Resources Description: Amounts of non-federal resources that will be used to support the project as identified in Block 18 of the SF-424. This line should be used to indicate required and/or voluntary committed cost sharing or matching, if applicable.

For all federal awards: Any shared costs or matching funds and all contributions, including cash and third-party in-kind contributions, must be accepted as part of the recipient's cost sharing, or matching when such contributions meet all of the criteria listed in 2 CFR 200.306.

For awards that require matching or cost sharing by statute: Recipients will be held accountable for projected commitments of non-federal resources (at or above the statutory requirement) in their application budgets and budget justifications by budget period, or by project period for fully funded awards. A recipient's failure to provide the statutorily required matching or cost sharing amount (and any voluntary committed amount in excess) may result in the disallowance of federal funds. Recipients will be required to report these funds in the Federal Financial Report.

Justification: If an applicant is relying on cost share or match from a third-party, then a firm commitment of these resources (letter(s) or other documentation) is required to be submitted with the application. Detailed budget information must be provided for every funding source identified in Item 18. “Estimated Funding ($)” on the SF-424.

Applicants are required to fully identify and document in their applications the specific costs or contributions they propose in order to meet a matching requirement. Applicants are also required to provide documentation in their applications on the sources of funding or contribution(s). In-kind contributions must be accompanied by a justification of how the stated valuation was determined. Matching or cost sharing must be documented by budget period (or by project period for fully funded award.

Applications that lack the required supporting documentation will not be disqualified from competitive review; however, it may impact an application's scoring under the evaluation criteria.

Key Contacts [V2.0]: Applicants must include the Key Contacts information page that includes:

• Lead Applicant contact information including address, email, desk, and cell phone number;

• If there is more than one contact, please provide an additional key contacts form.

• Please use a descriptive file name that includes Tribal name and identifies that it is the critical information page (CIP). For example: IBIPCIP.Tribalname.Project.

Attachments [V1.2]: Utilize the Attachments Form to include a Tribal Resolution, as applicable, issued in the fiscal year of the grant application, authorizing the submission of a FY 2022 IBIP grant application. It must be signed by authorized Tribal representative(s). The Tribal resolution must also include a description of the business plan to be implemented. The attachments form can also be used to include any other attachments related to the proposal.

Special Notes:

• Please make sure that System for Award Management (SAM) number used to apply is active, not expired, with a current Unique Entity Identifier (EUI) number on the SF-424;

• Please make sure an active Automated Standard Application for Payment (ASAP) number is provided. Applicants must have an ASAP number for the Bureau of Indian Affairs to be eligible;

• Please list the county(ies) where the project is located and congressional district number(s) where the project is located.

XI. Incomplete Applications

Applications submitted without one or more of the mandatory components described above will be returned to the applicant with an explanation. The applicant will then be allowed to correct any deficiencies and resubmit the proposal for consideration on or before the deadline. This option will not be available to an applicant once the deadline has passed.

XII. Review and Selection Process

Upon receiving a IBIP application, OIED will determine whether the application is complete and that the proposed project does not duplicate or overlap previous or currently funded Federal or OIED projects. Any proposal that is received after the date and time in the DATES section of this notice will not be reviewed. If an application is not complete and the submission deadline has not passed, the applicant will be notified and given an opportunity to resubmit its application.

The OIED Review Committee, comprised of OIED staff, staff from other Federal agencies, and subject matter experts, will evaluate the proposals against the ranking criteria per Section XIII. Evaluation Criteria, of this notice. Proposals will be evaluated with a maximum achievable total of 100 points.

Final award selections will be approved by the Assistant Secretary—Indian Affairs and the Associate Deputy Secretary, U.S. Department of the Interior. Applicants not selected for award will be notified in writing.

XIII. Evaluation Criteria

Proposals will be formally evaluated by an OIED review committee using criteria listed below. Each criterion provides a percentage of the total maximum rating of 100 points. Key criteria that will be considered in the review process include:

• The ability of the eligible Applicant(s) to:

○ Operate a business incubator that effectively imparts entrepreneurship and business skills to Native businesses and Native entrepreneurs, as demonstrated by the experience and qualifications of the eligible applicant;

○ Commence providing services within three months; and

○ Provide quality incubation services to a significant number of Native businesses and Native entrepreneurs or provide such services at geographically remote locations where quality business guidance and counseling is difficult to obtain;

• The experience of the eligible applicant in providing services in Native American communities, including in the one or more reservation communities described in the application;

• The extent to which a grant award will enable an entity that is already providing business incubation services to appreciably enhance those services; and

• The proposed location of the business incubator.

○ OIED will evaluated the location of the business incubator to:

Consider the program goal of achieving broad geographic distribution of business incubators; and

Give priority to eligible applicants that will provide business incubation services on or near the reservation of the one or more communities that were described in the application, except that OIED may give priority to an eligible applicant that is not located on or near the reservation of the one or more communities that were described in the application if OIED determines that:

• The location of the business incubator will not prevent the eligible applicant from providing quality business incubation services to Native businesses and Native entrepreneurs from the one or more reservation communities to be served; and

• Documenting that the business incubator in the identified location will serve the interests of the one or more reservation communities to be served.

○ OIED will conduct the site evaluation:

• Before awarding a grant to an eligible applicant, OIED will conduct an evaluation of the proposed site to verify that the applicant has (or will have) the physical workspace, equipment, and connectivity necessary for Native businesses and Native entrepreneurs to collaborate and conduct business on a local, regional, national, and/or international level.

• To determine whether the site meets the requirements of paragraph above:

○ If the applicant is in possession of the proposed site, OIED will conduct an on-site or virtual visit or review a video submission before awarding the grant.

○ If the applicant is not yet in possession of the proposed site and has submitted a written site proposal, OIED will review the written site proposal before awarding the grant and will conduct an on-site or virtual visit or review a video submission to ensure the site is consistent with the written site proposal no later than one year after awarding the grant. If OIED determines the site is not consistent with the written site proposal, OIED will use that information in determining the ongoing eligibility of the applicant under § 1187.50.

Business Incubator Operation Description: 25 Points.

Description of Providing Services Within Three Months: 10 points.

Description of Incubation Services to Entities and Locations: 25 points.

Description of Reservation Community(ies) Served: 15 points.

Location of Business Incubator: 10 points.

Budget Justification (Line Item Budget and Budget Narrative): 15 points.

Business Incubator Operation Description: 25 Points.

Points will be awarded based on the applicant's description of how they will operate a business incubator that will effectively impart entrepreneurship and business skills to Native businesses and Native entrepreneurs, as demonstrated by the experience and qualifications of the eligible applicant. Milestone goals and objectives and outcomes of the project proposal should outline the success parameters and deliverables of the incubator through the term of the grant, see Section X. Mandatory Components, of this notice.

Description of Providing Services Within Three Months: 10 Points

The Applicant proposal must demonstrate the ability for the incubator to begin providing services within three months from the date of award.

Description of Incubation Services to Entities and Locations: 25 Points

Points will be awarded based on the Applicant's ability to provide quality incubation services to a significant number of Native businesses and Native entrepreneurs or provide such services at geographically remote locations where quality business guidance and counseling are difficult to obtain. “Significant” will be considered the relative quality incubation services provided to the number of Native businesses and Native entrepreneurs in the proposal to the overall amount of funding requested. Identified goal(s) of the anticipated number of Native businesses starting, and the anticipated number of Native businesses help maintaining.

The Applicant will have broad discretion in determining what structure their competitive process will be in selecting participants into their incubator program. They will also determine appropriate curriculum, training and program completion requirements that determine participant “graduation.”

Description of Reservation Community(ies) Served: 15 Points

The Applicant's proposal must demonstrate experience in providing services in Native American communities. Applicants have flexibility in who they identify to serve, which must identify one or more reservation communities, regardless if the communities are near their own Tribe's homelands. Applicant must demonstrate they are serving a diverse population and include justifications around socioeconomic factors and considerations related to size and location, often to geographically remote locations where quality business guidance and counseling is difficult to obtain. Applicants may see Regional and diverse market representation across Indian Country.

Location of Business Incubator: 10 Points

Applicant must have a location secured that provides physical space to its participating businesses. Whereas the applicant does not have to be in possession of the proposed site at the time of application, it must be secured as soon as services are provided.

Budget Justification (Line Item Budget and Budget Narrative): 15 Points

Points will be awarded based on the reasonableness of the proposed IBIP project in view of the types and range of activities to be conducted and the expected outcomes and benefits. The application includes a strong plan for oversight of federally awarded funds and activities. In particular, the application describes the rules and procedures in place to ensure the prudent use, proper disbursement, and accurate accounting of funds. The budget includes expenses for travel and accommodation costs for two IBIP representatives to attend the 1½ day IBIP annual meeting in Washington, DC, or another regional location. For the purpose of estimating travel expenses, the program can use the Washington, DC, area as the location for the regional location. If a virtual IBIP annual meeting is convened, grantees can reallocate their travel funds back to their budget.

XIV. Transfer of Funds

OIED's obligation under this solicitation is contingent on receipt of congressionally appropriated funds. No liability on the part of the U.S. Government for any payment may arise until funds are made available to the awarding officer for this grant and until the recipient receives notice of such availability, to be confirmed in writing by the grant officer.

All payments under this agreement will be made by electronic funds transfer through the ASAP system. All award recipients are required to have a current and accurate UEI number to receive funds. All payments will be deposited to the banking information designated by the Bureau of Indian Affairs in the SAM.

OIED will disburse grant funds awarded to eligible applicants in annual installments except that, OIED may make disbursements more frequently, on request by the applicant, as long as disbursements are not made more frequently than quarterly. IBIP grant awards may not be duplicative of existing Federal funding from another source that overlaps funding for the same activities described in the Applicant's proposal.

XV. Reporting Requirements for Award Recipients

The applicant must deliver all products and data required by the signed Grant Agreement for the proposed IBIP grant to OIED within 30 days of the end of each reporting period and 120 days after completion of the project. The reporting periods will be established in the terms and conditions of the final award. IBIP will require yearly cumulative financial reporting per a SF-425. IBIP will require annual Performance reporting, which will be used to conduct annual grantee evaluations towards renewal determinations, as well as final reports due at the end of the 3-year term.

The Performance Report will include:

• Not later than one year after the date OIED awards the grant, and then annually for the duration of the grant, the awardee must submit to OIED a report describing the services the awardee provided under the IBIP during the preceding year, including:

○ A detailed breakdown of the Native businesses and Native entrepreneurs receiving services from the business incubator, including, for the year covered by the report:

The number of Native businesses and Native entrepreneurs participating in or receiving services from the business incubator and the types of services provided to those Native businesses and Native entrepreneurs;

The number of Native businesses and Native entrepreneurs established and jobs created or maintained; and

The number of Native businesses and Native entrepreneurs maintained; and

The performance of Native businesses and Native entrepreneurs while participating in the business incubator and after graduation or departure from the business incubator; and

○ Any other information the Secretary may require to evaluate the performance of a business incubator to ensure appropriate implementation of the IBIP.

• To the maximum extent practicable, OIED will not require an awardee to report the information listed above that the awardee provides to OIED under another program.

• OIED will coordinate with the heads of other Federal agencies to ensure that, to the maximum extent practicable, the report content and form above are consistent with other reporting requirements for Federal programs that provide business and entrepreneurial assistance.

Annual Evaluations will measure successful outcomes of the grant based on the identified milestones and outcomes from the incubator project application, as well as identified deliverables. OIED will measure performance of an awardee's business incubator as it compares to the performance of other business incubators receiving grants under IBIP. The reporting function will not require detailed capital investments and revenue growth information, instead it will focus on the total number of Native businesses and entrepreneurs the incubator assists and their performance while participating and after graduation or departure from the incubator.

OIED oversight reporting is tracking grant funding only, not incubator activities. Proper justification and use of grant funds in the application and through the term of the grant are required. Release of business and entrepreneur financial disclosures, that may deter participation in the program, will not be required. Equity created from the program should be reinvested back into the program by mentoring and sharing best practices with other businesses.

OIED requires that deliverable products be provided in digital format and submitted in the GrantSolutions system. Reports can be provided in either Microsoft Word or Adobe Acrobat PDF format. Spreadsheet data can be provided in Microsoft Excel, Microsoft Access, or Adobe PDF formats. All vector figures should be converted to PDF format. Raster images can be provided in PDF, JPEG, TIFF, or any of the Windows metafile formats. The contract between the grantee and the consultant conducting the IBIP grant must include deliverable products and require that the products be prepared in the format described above.

The contract should include budget amounts for all printed and digital copies to be delivered in accordance with the grant agreement. In addition, the contract must specify that all products generated by a consultant belong to the grantee and cannot be released to the public without the grantee's written approval. Products include, but are not limited to, all reports and technical data obtained, maps, status reports, and the final report.

In addition, this funding opportunity and financial assistance award must adhere to the following provisions in Section XVI Conflicts of Interest through Section XIX Authority.

XVI. Conflicts of Interest

Applicability

• This section intends to ensure that non-Federal entities and their employees take appropriate steps to avoid conflicts of interest in their responsibilities under or with respect to Federal financial assistance agreements.

• In the procurement of supplies, equipment, construction, and services by recipients and by sub-recipients, the conflict of interest provisions in 2 CFR 200.318 apply.

Requirements

• Non-Federal entities must avoid prohibited conflicts of interest, including any significant financial interests that could cause a reasonable person to question the recipient's ability to provide impartial, technically sound, and objective performance under or with respect to a Federal financial assistance agreement.

• In addition to any other prohibitions that may apply with respect to conflicts of interest, no key official of an actual or proposed recipient or sub-recipient, who is substantially involved in the proposal or project, may have been a former Federal employee who, within the last one (1) year, participated personally and substantially in the evaluation, award, or administration of an award with respect to that recipient or sub-recipient or in development of the requirement leading to the funding announcement.

• No actual or prospective recipient or sub-recipient may solicit, obtain, or use non-public information regarding the evaluation, award, administration of an award to that recipient or sub-recipient or the development of a Federal financial assistance opportunity that may be of competitive interest to that recipient or sub-recipient.

Notification

• Non-Federal entities, including applicants for financial assistance awards, must disclose in writing any conflict of interest to the DOI awarding agency or pass-through entity in accordance with 2 CFR 200.112, Conflicts of Interest.

• Recipients must establish internal controls that include, at a minimum, procedures to identify, disclose, and mitigate or eliminate identified conflicts of interest. The recipient is responsible for notifying the Financial Assistance Officer in writing of any conflicts of interest that may arise during the life of the award, including those that have been reported by sub-recipients.

• Restrictions on Lobbying. Non-Federal entities are strictly prohibited from using funds under this grant or cooperative agreement for lobbying activities and must provide the required certifications and disclosures pursuant to 43 CFR part 18 and 31 U.S.C. 1352.

• Review Procedures. The Financial Assistance Officer will examine each conflict of interest disclosure on the basis of its particular facts and the nature of the proposed grant or cooperative agreement, and will determine whether a significant potential conflict exists and, if it does, develop an appropriate means for resolving it.

• Enforcement. Failure to resolve conflicts of interest in a manner that satisfies the Government may be cause for termination of the award. Failure to make the required disclosures may result in any of the remedies described in 2 CFR 200.338, Remedies for Noncompliance, including suspension or debarment (see also 2 CFR part 180).

Data Availability

• Applicability. The Department of the Interior is committed to basing its decisions on the best available science and providing the American people with enough information to thoughtfully and substantively evaluate the data, methodology, and analysis used by the Department to inform its decisions.

• Use of Data. The regulations at 2 CFR 200.315 apply to data produced under a Federal award, including the provision that the Federal Government has the right to obtain, reproduce, publish, or otherwise use the data produced under a Federal award as well as authorize others to receive, reproduce, publish, or otherwise use such data for Federal purposes.

• Availability of Data. The recipient shall make the data produced under this award and any subaward(s) available to the Government for public release, consistent with applicable law, to allow meaningful third-party evaluation and reproduction of the following:

○ The scientific data relied upon;

○ The analysis relied upon; and

○ The methodology, including models, used to gather and analyze data.

XVII. Questions and Requests for OIED Assistance

OIED staff may provide technical consultation, upon written request by an applicant. The request must clearly identify the type of assistance sought. Technical consultation does not include funding to prepare a grant proposal, grant writing assistance, or pre-determinations as to the likelihood that a proposal will be awarded. The applicant is solely responsible for preparing its grant proposal. Technical consultation may include clarifying application requirements, confirming whether an applicant previously submitted the same or similar proposal, and registration information for SAM or ASAP.

XVIII. Paperwork Reduction Act

The information collection requirements contained in this notice have been reviewed and approved by the Office of Management and Budget (OMB) under the Paperwork Reduction Act, 44 U.S.C. 3504(h). The OMB control number is 4040-0004. The authorization expires on December 31, 2022. An agency may not conduct or sponsor, and Applicant is not required to respond to, any information collection that does not display a currently valid OMB Control Number.

XIX. Authority

This is a discretionary grant program authorized under the Native American Business Incubators Program Act, Public Law 116-174, codified at 25 U.S.C. 5801. The IBIP, also known as the Native American Business Incubator's Program, is a program in which OIED provides competitive grants to eligible applicants to establish and operate business incubators that serve Tribal reservation communities. Congress enacted the Native American Business Incubators Program and required the Secretary to promulgate regulations to implement the program, see 25 U.S.C. 5804. The regulations are codified at 25 CFR part 1187 and provide the framework for operation of the grant program so that there is certainty as to who is eligible for a grant, how eligible applicants can apply for a grant, how OED will evaluate, award and administer the grants, and what terms and conditions will apply to the grants. The Final Rule enabled OED to provide grants that will stimulate economic development in reservation communities.

Bryan Newland,
Assistant Secretary—Indian Affairs.

[FR Doc. 2022-06077 Filed 3-22-22; 8:45 am]

BILLING CODE 4337-15-P